DEPARTMENT OF COMMERCE

National Oceanic and Atmospheric Administration

[RTID 0648-XB892]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet April 4, 2022, through April 11, 2022, via hybrid conference.

DATES: The Council's Scientific and Statistical Committee (SSC) will begin at 8 a.m. in the Aleutian/Alaska room on Monday, April 4, 2022, and continue through Wednesday, April 6, 2022. The Council's Advisory Panel (AP) will begin at 8 a.m. in the Denali room on Tuesday, April 5, 2022, and continue through Friday, April 8, 2022. The Council will begin at 8 a.m. in the Aleutian/Alaska room on Wednesday, April 6, 2022, and continue through Monday, April 11, 2022. All times listed are Alaska Standard Time.

ADDRESSES:

Meeting address: The meetings will be a hybrid conference. The in-person component of the meeting will be held at the Anchorage Hilton Hotel, 500 W 3rd Ave., Anchorage, AK 99501, or join the meeting online through the links at https://www.npfmc.org/upcoming-council-meetings.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov. For technical support please contact our administrative staff, email: npfmc.admin@noaa.gov.

SUPPLEMENTARY INFORMATION:

Agenda

Monday, April 4, 2022, Through Wednesday, April 6, 2022

The SSC agenda will include the following issues:

(1) Scallops—SAFE report, ABC/OFL, Plan Team report

(2) Central GOA rockfish adjustments—Initial Review

(3) Bering Sea Fishery Ecosystem Plan (BS FEP)—review progress: (a) FEP Team report, (b) Local Knowledge, Traditional Knowledge, Subsistence (LKTKS) Taskforce report, (c) Climate Change Taskforce (CCTF) report

(4) Alaska Climate Integrated Modeling (ACLIM) Update—Review

(5) Bering Sea Aleutian Islands (BSAI) Directive report—review

The agenda is subject to change, and the latest version will be posted at https://meetings.npfmc.org/Meeting/Details/2855 prior to the meeting, along with meeting materials.

In addition to providing ongoing scientific advice for fishery management decisions, the SSC functions as the Council's primary peer review panel for scientific information, as described by the Magnuson-Stevens Act section 302(g)(1)(e), and the National Standard 2 guidelines (78 FR 43066).

The peer-review process is also deemed to satisfy the requirements of the Information Quality Act, including the OMB Peer Review Bulletin guidelines.

Tuesday, April 5, 2022, Through Friday, April 8, 2022

The Advisory Panel agenda will include the following issues:

(1) IFQ Omnibus Amendments—Final Action, Enforcement Committee Report

(2) RQE Fee Collection Program—Final Action

(3) Scallops—SAFE report, ABC/OFL, Plan Team report

(4) Central GOA rockfish adjustments—Initial Review

(5) Bristol Bay red king crab (BBRKC) Management, Biology, and Gear Impact

(6) Bering Sea Fishery Ecosystem Plan (BS FEP)—review progress: (a) FEP Team report, (b) Local Knowledge, Traditional Knowledge, Subsistence (LKTKS) Taskforce report, (c) Climate Change Taskforce (CCTF) report, (d) Ecosystem Committee report

(7) Alaska Climate Integrated Modeling (ACLIM) Update—Review

(8) Staff Tasking

Wednesday, April 6, 2022, Through Monday, April 11, 2022

The Council agenda will include the following issues. The Council may take appropriate action on any of the issues identified.

(1) All B Reports (Executive Director, Pacific Northwest Crab and Industry Advisory Committee, and Executive Committee, NMFS Management, NOAA GC, ADF&G, USCG, USFWS, NIOSH, Cooperative Reports)

(2) IFQ Omnibus Amendments—Final Action, Enforcement Committee Report

(3) RQE Fee Collection Program—Final Action

(4) Scallops—SAFE report, ABC/OFL, Plan Team report

(5) SSC report in full

(6) Central GOA rockfish adjustments—Initial Review

(7) Bristol Bay red king crab (BBRKC) Management, Biology, and Gear Impact

(8) Bering Sea Fishery Ecosystem Plan (BS FEP)—review progress: (a) FEP Team report, (b) Local Knowledge, Traditional Knowledge, Subsistence (LKTKS) Taskforce report, (c) Climate Change Taskforce (CCTF) report, (d) Ecosystem Committee report

(9) Alaska Climate Integrated Modeling (ACLIM) Update—Review

(6) Bering Sea Aleutian Islands (BSAI) Directive report—review

(10) Staff Tasking

Connection Information

You can attend the meeting online using a computer, tablet, or smart phone; or by phone only. Connection information will be posted online at: https://www.npfmc.org/upcoming-council-meetings. For technical support please contact our administrative staff, email: npfmc.admin@noaa.gov. If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from March 18, 2022 to April 1, 2022, and closes at 12 p.m., Alaska Time on April 1, 2022.

Although other non-emergency issues not on the agenda may come before this group for discussion, those issues may not be the subject of formal action during these meetings. Actions will be restricted to those issues specifically listed in this notice and any issues arising after publication of this notice that require emergency action under section 305(c) of the Magnuson-Stevens Fishery Conservation and Management Act, provided the public has been notified of the Council's intent to take final action to address the emergency.

(Authority: 16 U.S.C. 1801 et seq.)

Dated: March 14, 2022.
Tracey L. Thompson,
Acting Deputy Director, Office of Sustainable Fisheries, National Marine Fisheries Service.

[FR Doc. 2022-05639 Filed 3-16-22; 8:45 am]

BILLING CODE 3510-22-P